DEPARTMENT OF AGRICULTURE

Submission for OMB Review; Comment Request

September 13, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Importation of Live Poultry, Poultry Meat, and Other Poultry Products from Specified Regions.

OMB Control Number: 0579-0228.

Summary of Collection: The Animal Health Protection Act (AHPA) of 2002 is the primary Federal law governing the protection of animal health. Veterinary Services of the USDA's Animal and Plant Health Inspection Service (APHIS) is responsible for administering regulations intended to prevent the introduction of animal diseases into the United States. The regulations in 9 CFR Part 94 allow the importation of poultry meat and products and live poultry from Argentina and the Mexican States of Campeche, Quintana Roo, and Yucatan under certain conditions. APHIS will collect information through the use of a health certification statement that must be completed by Mexican veterinary authorities prior to export and three APHIS forms VS 17-129, VS 17-29, and VS 17-30.

Need and Use of the Information: The information collected from the health certificate and forms will provide APHIS with critical information concerning the origin and history of the items destined for importation in the United States. Without the information APHIS would be unable to establish an effective defense against the incursion of HPAI and END from poultry and poultry products imported from Argentina and certain Mexican States.

Description of Respondents: Federal Government; Business or other for-profit.

Number of Respondents: 21.

Frequency of Responses: Reporting: On occasion.

Total Burden Hours: 212.

Title: Importation of Shelled Peas from Kenya.

OMB Control Number: 0579-0302.

Summary of Collection: Under the Plant Protection Act (7 U.S.C. 7701 et seq.), the Secretary of Agriculture is authorized to carry out operations or measures to detect, eradicate, suppress, control, prevent, or retard the spread of plant pests new to the United States or not known to be widely distributed throughout the United States. The Animal and Plant Health Inspection Service (APHIS) fruits and vegetables regulations allows the importation of shelled garden peas from Kenya into the continental United States while continuing to protect against the introduction of quarantined peas.

Need and Use of the Information: APHIS requires that some plants or plant products be accompanied by a phytosanitary inspection certificate that is completed by plant health officials in the originating or transiting country. APHIS uses the information on the certificate to determine the pest condition of the shipment at the time of inspection in the foreign country. This information is used as a guide to the intensity of the inspection APHIS conducts when the shipment arrives. Without the information, all shipments would need to be inspected very thoroughly, thereby requiring considerably more time. This would slow the clearance of international shipments.

Description of Respondents: Federal Government.

Number of Respondents: 1.

Frequency of Responses: Reporting: On occasion.

Total Burden Hours: 1.

Title: Importation of Wooden Handicrafts from China.

OMB Control Number: 0579-0357.

Summary of Collection: Under the Plant Protection Act (7 U.S.C. 7701 et seq.), the Secretary of Agriculture is authorized to carry out operations or measures to detect, eradicate, suppress, control, prevent, or retard the spread of plant pests new to the United States or not known to be widely distributed throughout the United States. APHIS' regulations provide for the importation of wooden handicrafts from China under certain conditions. Trade in these handicrafts has resumed while continuing to protect the United States against the introduction of plant pests.

Need and Use of the Information: APHIS requires that all wooden handicrafts must be labeled with a merchandise tag containing the identity the product manufacturer. The identification tag serves as means for APHIS to track shipments should a recall be required. Failure to collect this information would cause foreign countries to refuse any shipments from the United States that contained wooden handcrafts.

Description of Respondents: Business or other for-profit.

Number of Respondents: 140.

Frequency of Responses: Reporting: On occasion.

Total Burden Hours: 630.

Title: Importation of Papaya from Colombia and Ecuador.

OMB Control Number: 0579-0358.

Summary of Collection: Under the Plant Protection Act (7 U.S.C. 7701 et seq.), the Secretary of Agriculture is authorized to carry out operations or measures to detect, eradicate, suppress, control, prevent, or retard the spread of plant pests new to the United States or not known to be widely distributed throughout the United States. The Animal and Plant Health Inspection Service (APHIS) amended the regulations to allow, under certain condition, the importation of commercial shipments of fresh papaya from Colombia and Ecuador in the continental United States.

Need and Use of the Information: APHIS requires that all consignments of papaya from Colombia and Ecuador would have to be accompanied by a phytosanitary certificate by the National Plant Protection Organization of the exporting country stating that the papayas were grown, packed, and shipped in accordance with the proposed requirements.

Description of Respondents: Federal Government.

Number of Respondents: 3.

Frequency of Responses: Reporting: On occasion.

Total Burden Hours: 151.

Ruth Brown,
Departmental Information Collection Clearance Officer.

[FR Doc. 2012-23000 Filed 9-18-12; 8:45 am]

BILLING CODE 3410-34-P